DEPARTMENT OF AGRICULTURE

Forest Service

Kern and Tulare Counties Resource Advisory Committee

AGENCY: Forest Service, USDA.

ACTION: Call for proposals.

SUMMARY: The Kern and Tulare Counties Resource Advisory Committee (RAC) will be accepting applications for projects that may be recommended for funding under Title II of the Secure Rural Schools and Community Self-Determination Act (Pub. L. 110-343). The application will soon be available for download from the Sequoia National Forest Web site: http://www.fs.fed.us/r5/sequoia/projects/rural-schools/index.html and can be submitted electronically, by mail, or in person after January 15, 2011. The RAC is conducting workshops at meetings as authorized under the Secure Rural Schools and Community Self-Determination Act (Pub. L. 110-343) and in compliance with the Federal Advisory Committee Act.

DATES: Applications will be accepted between January 15 and close of business June 1, 2011 electronically, by mail, or in person. Meetings will be held in Porterville on February 17, 2011, and in Bakersfield on March 17, 2011. The February 17 meeting will also be available by video conference at the Kern River Ranger District Office. All meetings will begin at 5 p.m. and include workshops devoted to the development of proposals and the application process from 6 p.m. to 7:30 p.m.

ADDRESSES: The February 17, 2011 workshop will be held at the Sequoia National Forest Headquarters, 1839 South Newcomb Street, Porterville, California, and will be available by video conference at the Kern River Ranger District Office, 105 Whitney Road, Kernville, California. The March 17 workshop will be held at the County of Kern Administrative Office, 1115 Truxtun Avenue, Bakersfield, California.

Applications are to be sent to Penelope Shibley, Kern River Ranger District, P.O. Box 9, Kernville, CA 93238, or by e-mail to pshibley@fs.fed.us. The public may deliver applications to the Kern River Ranger District, 105 Whitney Road, Kernville, CA. RAC members will not accept applications. All applications, including names and addresses when provided, are placed in the record and are available for public inspection and copying. Visitors are encouraged to call 760-376-3781 to facilitate entry into the building and access to the record.

FOR FURTHER INFORMATION CONTACT: Penelope Shibley, RAC Coordinator, Kern River Ranger Station, P.O. Box 9, Kernville, CA 93238; (760) 376-3781; or e-mail: pshibley@fs.fed.us. Individuals who use telecommunication devices for the deaf (TDD) may call 559-781-6650 between 8 a.m. and 4:30 p.m., Pacific Time, Monday through Friday.

SUPPLEMENTARY INFORMATION: Work-shops will offer assistance on completing the application process to anyone choosing to attend. All workshops and meetings are open to the public. During the meetings, committee discussions are limited to Forest Service staff and committee members. The following business will be conducted (1) introductions of all committee members, replacement members, and Forest Service personnel; (2) approve minutes of the last meeting; (3) share updates on the progress of approved projects; and (4) receive public comment. Persons who wish to bring related matters to the attention of the Committee may file written statements with the Committee staff before or after the meeting.

Dated: November 29, 2010.
Tina J. Terrell,
Forest Supervisor.

[FR Doc. 2010-30325 Filed 12-2-10; 8:45 am]

BILLING CODE 3410-11-P